DEPARTMENT OF TRANSPORTATION

Federal Aviation Administration

14 CFR Part 39

[Docket No. FAA-2013-0697; Directorate Identifier 2013-SW-009-AD]

RIN 2120-AA64

Airworthiness Directives; Bell Helicopter Textron, Inc. (Bell) Helicopters

AGENCY: Federal Aviation Administration (FAA), DOT.

ACTION: Notice of proposed rulemaking (NPRM).

SUMMARY: We propose to supersede an existing airworthiness directive (AD) for Bell Model 214B, 214B-1, and 214ST helicopters with certain tail rotor hanger bearings (bearing) installed. The existing AD currently requires inspecting the bearing to determine whether an incorrectly manufactured seal material is installed on the bearing. Since we issued that AD, we have determined that replacing the defective bearing is a required terminating action. This proposed AD would retain the repetitive inspection of the bearings and would also require replacing the defective bearings. The proposed actions are intended to prevent loss of bearing grease, failure of the bearing, and subsequent loss of control of the helicopter.

DATES: We must receive comments on this proposed AD by October 11, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received and other information. The street address for the Docket Operations Office (telephone 800-647-5527) is in the ADDRESSES section. Comments will be available in the AD docket shortly after receipt.

For service information identified in this proposed AD, contact Bell Helicopter Textron, Inc., P.O. Box 482, Fort Worth, TX 76101; telephone (817) 280-3391; fax (817) 280-6466; or at http://www.bellcustomer.com/files/. You may review service information at the FAA, Office of the Regional Counsel, Southwest Region, 2601 Meacham Blvd., Room 663, Fort Worth, Texas 76137.

FOR FURTHER INFORMATION CONTACT: James Blyn, Aviation Safety Engineer, Rotorcraft Certification Office, Rotorcraft Directorate, FAA, 2601 Meacham Blvd., Fort Worth, Texas 76137; telephone (817) 222-5762; email 7-AVS-ASW-170@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On May 17, 2013, we issued AD 2013-11-05, amendment 39-17465 (78 FR 33204, dated June 4, 2013) for Bell Model 214B, 214B-1, and 214ST helicopters with certain part-numbered bearings installed. AD 2013-11-05 requires inspecting the bearings to determine whether an incorrectly manufactured seal material is installed on the bearing, and if it is installed, inspecting the bearing every 10 hours time-in-service (TIS) for any leaking grease or damage. If the bearing is leaking or has any damage, AD 2013-11-05 requires replacing the bearing. AD 2013-11-05 was prompted by a report that all part number 214-040-606-005 and 214-040-606-101 bearings delivered between May 2011 and June 2012 were manufactured with incorrect seal material. This incorrect seal material does not meet Bell's operating and environmental temperature specifications and under extreme heat could result in seal failure and grease loss from the bearing. The incorrect seal material is black in color; the correctly manufactured bearings have a red/orange to brown colored seal. Those actions are intended to prevent loss of bearing grease, failure of the bearing, and subsequent loss of control of the helicopter.

Actions Since Existing AD Was Issued

Since we issued AD 2013-11-05, we have determined that replacing the bearings within 500 hours TIS will provide an acceptable level of safety and should be a required terminating action for the repetitive inspections required by AD 2013-11-05. These actions are intended to provide a terminating action for AD 2013-11-05.

FAA's Determination

We are proposing this AD because we evaluated all the relevant information and determined the unsafe condition described previously is likely to exist or develop in other helicopters of these same type designs.

Related Service Information

Bell has issued Alert Service Bulletin (ASB) 214-13-74, Revision A, dated March 25, 2013, for Model 214B and 214B-1 helicopters serial number (S/N) 28001 through 28070, and ASB 214ST-13-90, Revision A, dated March 25, 2013, for Model 214ST helicopters. Both ASBs describe procedures to determine whether any bearing with incorrect seal material is installed on the helicopter and for inspecting any installed bearing with incorrect seal material every 10 hours time-in-service (TIS). Both ASBs also specify replacing any bearing with incorrect seal material that is leaking grease or damaged. Finally, the ASBs specify replacing any bearing with incorrect seal material within 500 hours TIS or by December 31, 2013.

Proposed AD Requirements

This proposed AD would retain the repetitive inspection requirements of AD 2013-11-05. This proposed AD would also require replacing any bearing that has black seal material with a bearing that has correct seal material within 500 hours TIS or 6 months, whichever occurs earlier, as a terminating action.

Differences Between the Proposed AD and the Service Information

The Bell ASBs allow 25 hours TIS for the initial inspection, while this proposed AD would require inspecting within 10 hours TIS. The ASBs specify replacing any bearing with black seal material within 500 hours TIS or by December 31, 2013. This proposed AD would require replacement within 500 hours TIS or 6 months, whichever occurs earlier.

Costs of Compliance

We estimate that this AD will affect 26 helicopters of U.S. Registry. We estimate that operators may incur the following costs in order to comply with this AD. At an average labor cost of $85 per hour, inspecting the bearings would require about 2.5 work hours, for a cost per helicopter of $213 and a cost of $5,538 for the fleet. Replacing a defective bearing would require about 3 work hours, and required parts would cost $1,372, for a cost per helicopter of $1,627.

According to Bell's service information some of the costs of this AD may be covered under warranty, thereby reducing the cost impact on affected individuals. We do not control warranty coverage by Bell. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17465 (78 FR 33204, dated June 4, 2013) and adding the following new airworthiness directive (AD):

Bell Helicopter Textron, Inc. (Bell): Docket No. FAA-2013-0697; Directorate Identifier 2013-SW-009-AD.

(a) Applicability

This AD applies to Bell Model 214B helicopters, serial number (S/N) 28001 through 28070, Model 214B-1 helicopters, S/N 28001 through 28070, and Model 214ST helicopters, S/N 28101 through 28200, with a tail rotor hanger bearing (bearing), part number (P/N) 214-040-606-005 or 214-040-606-101 installed, certificated in any category.

(b) Unsafe Condition

This AD defines the unsafe condition as a bearing with incorrect seal material, which could fail under extreme temperature or environmental conditions, resulting in loss of tail rotor control and subsequent loss of control of the helicopter.

(c) Affected ADs

This AD supersedes AD 2013-11-05, Amendment 39-17465 (78 FR 33204, dated June 4, 2013).

(d) Comments Due Date

We must receive comments by October 11, 2013.

(e) Compliance

You are responsible for performing each action required by this AD within the specified compliance time unless it has already been accomplished prior to that time.

(f) Required Actions

(1) Within 10 hours time in service (TIS):

(i) Inspect each bearing to determine whether the seal material is correct, as described in the Accomplishment Instructions, Part 1- Inspection, paragraphs 1.a. through 2. and Figure 1 of Bell Alert Service Bulletin (ASB) 214-13-74, Revision A, dated March 25, 2013, for Model 214B and 214B-1 helicopters and ASB 214ST-13-90, Revision A, dated March 25, 2013, for Model 214ST helicopters.

(ii) For each bearing with black seal material, before further flight and thereafter at intervals not to exceed 10 hours TIS, inspect the bearing for leakage, slung grease, or damage. If there is any leakage, slung grease, or damage, before further flight, replace the bearing with an airworthy bearing with red/orange to brown color seal material.

(2) Within 500 hours TIS or 6 months, whichever occurs earlier, replace any bearing with black seal material with an airworthy bearing with red/orange to brown color seal material.

(3) Do not install bearing P/N 214-040-606-005 or 214-040-606-101 with black seal material on any helicopter.

(g) Special Flight Permits

Special flight permits are prohibited.

(h) Alternative Methods of Compliance (AMOCs)

(1) The Manager, Rotorcraft Certification Office, FAA, may approve AMOCs for this AD. Send your proposal to: James Blyn, Aviation Safety Engineer, Rotorcraft Certification Office, Rotorcraft Directorate, FAA, 2601 Meacham Blvd., Fort Worth, Texas 76137; telephone (817) 222-5762; email 7-AVS-ASW-170@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(j) Subject

Joint Aircraft Service Component (JASC) Code: 6500: Tail Rotor Drive Bearing.

Issued in Fort Worth, Texas, on August 2, 2013.
Lance T. Gant,
Acting Directorate Manager, Rotorcraft Directorate, Aircraft Certification Service.

[FR Doc. 2013-19431 Filed 8-9-13; 8:45 am]

BILLING CODE 4910-13-P